DEPARTMENT OF COMMERCE

National Oceanic and Atmospheric Administration

RIN 0648-XF511

Atlantic Coastal Fisheries Cooperative Management Act Provisions; Summer Flounder Fishery

AGENCY: National Marine Fisheries Service (NMFS), National Oceanic and Atmospheric Administration (NOAA), Commerce.

ACTION: Notice of determination of compliance for the State of New Jersey.

SUMMARY: This notice announces the Secretary of Commerce's compliance decision under the Atlantic Coastal Fisheries Cooperative Management Act regarding New Jersey recreational management of summer flounder. This notice is necessary to alert the public that the Secreatary of Commerce has made a final determination and will not implement a Federal moratorium on fishing, possession, and landing of summer flounder in New Jersey's state waters. The intended effect of this notice is to inform the public of this determination of compliance.

DATES: The date of this determination was July 10, 2017.

FOR FURTHER INFORMATION CONTACT: Emily Gilbert, Fishery Policy Analyst, (978) 281-9244.

SUPPLEMENTARY INFORMATION: In accordance with the Atlantic Coastal Fisheries Cooperative Management Act (Atlantic Coastal Act), 16 U.S.C. 5101 et seq., the Secretary of Commerce (Secretary) announces his determination that the State of New Jersey did not implement the measures required by the Atlantic States Marine Fishery Commission's Addendum XXVIII to the Flounder, Scup, and Black Sea Bass Interstate Fishery Management Plan (Addendum XXVIII). However, the Secretary finds that the management measures New Jersey failed to implement are not necessary for the conservation of summer flounder. Based on the analysis provided by the State, it is likely that New Jersey's measures will result in similar levels of total removals as the measures outlined in Addendum XXVIII. As a result, the Secretary is not imposing a moratorium in New Jersey state waters.

The Atlantic Coastal Act's noncompliance review and determination process was previously outlined in a notice that published in the Federal Register on June 22, 2017, (82 FR 28476) and is not repeated here.

Authority: 16 U.S.C. 1801 et seq.

Dated: July 17, 2017.
Emily H. Menashes,
Acting Director, Office of Sustainable Fisheries, National Marine Fisheries Service.

[FR Doc. 2017-15229 Filed 7-19-17; 8:45 am]

BILLING CODE 3510-22-P